DEPARTMENT OF STATE

[Public Notice 8245]

Waiver of Restriction on Assistance to the Central Government of Cambodia

Pursuant to Section 7031(b)(3) of the Department of State, Foreign Operations, and Related Programs Appropriations Act, 2012 (Div. I, Pub. L.112-74) (“the Act”), and Department of State Delegation of Authority Number 245-1, I hereby determine that it is important to the national interest of the United States to waive the requirements of Section 7031(b)(1) of the Act with respect to Cambodia and I hereby waive this restriction.

This determination and the accompanying Memorandum of Justification shall be reported to the Congress, and the determination shall be published in the Federal Register.

Dated: June 27, 2012.
Thomas R. Nides,
Deputy Secretary for Management and Resources.

Editorial Note: This document was received at the Office of the Federal Register March 19, 2013.

[FR Doc. 2013-06634 Filed 3-21-13; 8:45 am]

BILLING CODE 4710-30-P